DEPARTMENT OF TRANSPORTATION

National Highway Traffic Safety Administration

[Docket No. NHTSA 2000-8247; Notice 2]

Cooper Tire & Rubber Company; Grant of Application for Decision of Inconsequential Noncompliance

Cooper Tire & Rubber Company (Cooper) has determined that approximately 8,824 motorcycle tires produced at the Melksham, England, tire manufacturing facility of Cooper-Avon Tyres Limited, do not meet the labeling requirements mandated by Federal Motor Vehicle Safety Standard (FMVSS) No. 119, “New Pneumatic Tires for Vehicles Other than Passenger Cars,” and has filed an appropriate report pursuant to 49 CFR Part 573, “Defect and Noncompliance Reports.” Cooper has also applied to be exempted from the notification and remedy requirements of 49 U.S.C. Chapter 301—“Motor Vehicle Safety” on the basis that the noncompliance is inconsequential to motor vehicle safety.

Notice of receipt of the application was published, with a 30-day comment period, on January 2, 2001, in the Federal Register (66 FR 131). NHTSA received no comments.

The purpose of FMVSS No. 119, according to S2, is “to provide safe operational performance levels for tires used on motor vehicles other than passenger cars, and to place sufficient information on the tires to permit their proper selection and use.” Paragraph S6.5(d) of FMVSS No. 119 requires that each tire be marked with the maximum load rating and corresponding inflation pressure, and provides the following example “Max Load ___ lbs at ___ psi cold.”

Cooper's noncompliance relates to the mislabeling of approximately 8,824 tires. The tires are the MT90-16 71H, Load Range B, motorcycle tires sold to one original equipment manufacturer/customer under the brand names AVON MT90-16 Roadrunnner, AVON MT90-16 Gangster, and Avon MT90-16 Indian. These tires were produced with the incorrect maximum load rating on the serial side of the tire during the first through the twentieth production weeks of 2000. Approximately 8,124 of the tires involved have been accounted for in either Cooper's inventory or the inventory of original equipment manufacturer/customer, leaving an estimated 700 tires not accounted for in either inventory. The incorrect plate read “MAX LOAD 345 KG AT 2.9 BAR COLD, 760 LBS AT 42 PSI COLD.” The correct information should have been “MAX LOAD 770 LBS AT 36 PSI COLD.”

According to Cooper, this mislabeling does not present a safety-related defect. The tires involved are designed to carry a heavier load (770 lbs.) than the incorrect labeling specified (760 lbs.). Consequently, any misapplication of the tire would be for the user to carry a lighter load than the load for which the tires are designed. The tires produced from this mold during the aforementioned production periods comply with all other requirements of 49 CFR 571.119.

Based on the agency's telephone discussions with the petitioner, Cooper management has extensively reviewed the processes, the causes of these noncompliances have been isolated, and changes in the processes have been instituted to prevent any future occurrences. The noncompliance is limited to the equipment addressed in this notice. In addition, Cooper stated that all of its motorcycle tires assembled after this noncompliance were constructed in compliance with FMVSS No. 119 requirements.

The agency has reviewed Cooper's petition and believes this labeling noncompliance is inconsequential as it relates to motor vehicle safety. The primary safety purpose of this label is to ensure that the owners can select a tire appropriate for their motorcycle. In this case, Cooper understated the load carrying capability of the tire by labeling the maximum load on the tire as 760 pounds instead of 770 pounds. Cooper, in effect, produced a better tire than the label would indicate to the purchaser. Regarding the mis-marked inflation pressure, Cooper stated, in a telephone conversation, that the pressure was initially to be labeled on the tire as 36 psi, even though the tire was designed to accommodate a much higher inflation pressure. [Note: Per the Tire and Rim Association's 2000 Yearbook, page 7-09: A motorcycle tire of size MT-90-16, Load Range B, is 783 pounds at 36 psi. In addition, footnote no. 2 on that page states “For special operating conditions, inflation pressure may be increased up to 40 psi maximum with no increase in load]. During the agency's technical discussions with Cooper, the tire manufacturer stated that the tires were designed to accommodate a higher inflation pressure than the mis-marked maximum inflation pressure of 42 psi. Cooper verified with the motorcycle manufacturer using the subject tire as a rear tire that when the tire is inflated to 40 psi, it could safely carry the maximum load. Cooper conducted a safety verification of these various inflation pressures with indoor test wheels and production motorcycles on a closed track.

The agency agrees with Cooper's rationale that a motorcycle equipped with the mis-labeled tires and loaded per the incorrect maximum load rating would not cause an unsafe condition, because the motorcycle would carry a lighter load than the load for which the tires are designed and be inflated to a pressure level below the tire's designed maximum inflation pressure.

In consideration of the foregoing, NHTSA has decided that the applicant has met its burden of persuasion that the noncompliance it describes is inconsequential to motor vehicle safety. Accordingly, Cooper's application is hereby granted, and the applicant is exempted from the obligation of providing notification of, and a remedy for, the noncompliance.

(49 U.S.C. 30118; delegations of authority at 49 CFR 1.50 and 501.8)

Issued on: October 15, 2001.
Stephen R. Kratzke,
Associate Administrator for Safety Performance Standards.

[FR Doc. 01-26463 Filed 10-18-01; 8:45 am]

BILLING CODE 4910-59-P